DEPARTMENT OF JUSTICE

Antitrust Division

Notice Pursuant To the National Cooperative Research and Production Act of 1993—Telemanagement Forum

Notice is hereby given that, on May 3, 2021, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Aaxis Digital, Los Angeles, CA; Advanced Institute of Information Technology (AIIT), Peking University, Hangzhou, PEOPLE'S REPUBLIC OF CHINA; Brytlyt Limited, Maidstone, UNITED KINGDOM; Elisa Corporation, Helsinki, FINLAND; Epam Systems, Inc., Newtown, PA; Eric G. Troup, Orlando, FL; GeoIdentity Inc., Los Gatos, CA; Getreve Limited, London, UNITED KINGDOM; Hangzhou Eastcom Software Technology Co., Ltd, Hangzhou, PEOPLE'S REPUBLIC OF CHINA; HAWE Telekom Sp. z o.o., Warszawa, POLAND; Ikanotis Partners Ltd, Nicosia, CYPRUS; IntegraTouch, Akron, OH; IQ Hive, Auckland, NEW ZEALAND; Kenneth Dilbeck, Arlington, WA; Lightstorm Telecom Connectivity Private Limited, Delhi, INDIA; MCH Advies & Automatisering B.V., Nieuwegein, NETHERLANDS; Megron Tech Ltd, Swindon, UNITED KINGDOM; Metaswitch Networks, Enfield, UNITED KINGDOM; MetroNet, Evansville, IN; Mobile Telecommunications Limited, Olympia Windhoek, NAMIBIA; NMS Prime, Marienberg, GERMANY; Ovetix, Cape Town, SOUTH AFRICA; Paul Jordan, Witney, UNITED KINGDOM; Rasha Communications Development Ltd, London, UNITED KINGDOM; Safarifone Private Limited, Islamabad, PAKISTAN; Subex Inc., Denver, CO; Surgut State University, Surgut, RUSSIA; Swim.ai, Campbell, CA; Synergy Consulting, Dubai, UNITED ARAB EMIRATES; Teradata Corporation, San Diego, CA; Trextel, Duluth, GA; Vodafone New Zealand Limited, Auckland, NEW ZEALAND; Wavemaker, Mountain View, CA.

Also, the following members have changed their names: Accedian Networks to Accedian, Saint-Laurent, CANADA; AWTG Ltd to AWTG Limited, London, UNITED KINGDOM; CenturyLink, Inc. to Lumen, Monroe, LA; Gfi World to Inetum, Saint-Ouen, FRANCE; Innovation to Innovation Consulting Group, Riyadh, KINGDOM OF SAUDI ARABIA; Intrasoft International SA Luxembourg to INTRASOFT International S.A, Luxembourg, LUXEMBOURG; Jabb Technical Solutions, LLC to JAB Technology Solutions LLC, Bayonne, NJ; Sparkle to Telecom Italia Sparkle S.p.A., Rome, ITALY; Symbiosis Institute of Telecom Management to Symbiosis Institute of Digital and Telecom Management, Pune, INDIA; TATIC SOLUCOES EM INFORMATICA LTDA to Tatic Soluções em Informática Ltda, Belo Horizonte, BRAZIL; Timir LTD to TIMIR, TOO, Almaty, KAZAKHSTAN; Z-Lift to Z-Lift Solutions Inc., Makati City, PHILIPPINES.

In addition, the following parties have withdrawn as parties to this venture: Aarav Solutions, Bangalore, INDIA; ALFASATCOM JSC, Moscow, RUSSIA; Amalgamotion PTY, East Lindfield, AUSTRALIA; Calicsi LTD, Muscat, OMAN; Cardinality Ltd, Guildford, UNITED KINGDOM; Celfinet, Lisbon, PORTUGAL; Connected Places Catapult, London, UNITED KINGDOM; DataProbity, Stuart, FL; Digiglu Ltd, Hatfield, UNITED KINGDOM; FICO, San Diego, CA; Fundacao Universidade do Contestado—Engenharia Eletrica/Telecomunicacoes, Canoinhas, BRAZIL; Innowave Technologies, Lisbon, PORTUGAL; Jaks Tech Solutions LLP, Madurai, INDIA; KDext j.d.o.o., Zagreb, CROATIA; LG Uplus Corp, Seoul, SOUTH KOREA; Liquid Telecom, London, UNITED KINGDOM; LMU Munich, Munich, GERMANY; Loyola University New Orleans College of Business, Business Administration, New Orleans, LA; MACCSA (Multinational Alliance for Collaborative Cyber Situational Awareness), Shrewton, UNITED KINGDOM; Mercy College—School of Liberal Arts, Dobbs Ferry, NY; Mindarray Systems Pvt. Ltd, Ahmedabad, INDIA; National Network New Media Center of Engineering Technology Research, Institute of Acoustics, CAS, Beijing, PEOPLE'S REPUBLIC OF CHINA; Nomensa, Bristol, UNITED KINGDOM; Nuviso Networks Pvt Ltd, Bengaluru, INDIA; Poznan University of Technology, Politechnika Poznanska, Poznan, POLAND; Red Dawn Consulting, Northwood, UNITED KINGDOM; Science Applications International Corporation, Reston, VA; Sonogy Research LLC, Florham Park, NJ; Southern Polytechnic State University—Department of Information Technology, Marietta, GA; SPPrac, Cape Town, SOUTH AFRICA; Symbox Ltd, Theale, UNITED KINGDOM; TÜBITAK BILGEM Software Research Technologies Institute, Gebze, TURKEY; TWI, Cambridge, UNITED KINGDOM; University of Cape Town, Western Cape, SOUTH AFRICA; University of Reading—School of Systems Engineering, Reading, UNITED KINGDOM; Verbio Inc, Palo Alto, CA.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on January 27, 2021. A notice was published in the Federal Register pursuant to Section 6(b) of the Act on March 10, 2021 (85 FR 13753).

Suzanne Morris,
Chief, Premerger and Division Statistics, Antitrust Division.

[FR Doc. 2021-10932 Filed 5-24-21; 8:45 am]

BILLING CODE 4410-11-P